DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On March 15, 2019, OFAC determined that the property and interests in property subject to U.S. jurisdiction of the following persons are blocked under the relevant sanctions authorities listed below.

Individuals

1. MEDVEDEV, Gennadiy (a.k.a. MEDVIEDIEV, Gennadiy Nikolayevich); DOB 14 Sep 1959; citizen Russia; Gender Male; Deputy Director of the Border Guard Service of the Federal Security Service of the Russian Federation (individual) [UKRAINE-EO13661].

Designated pursuant to section 1(a)(ii)(A) of Executive Order 13661 of March 16, 2014, “Blocking Property of Additional Persons Contributing to the Situation in Ukraine” (E.O. 13661), for being an official of the Government of the Russian Federation.

2. NAYDENKO, Aleksey Alekseevich (Cyrillic: НАЙДЕНКО, Алексей Алексеевич) (a.k.a. NAIDENKO, Aleksey; a.k.a. NAYDENKO, Oleksii Oleksiyovych (Cyrillic: НАЙДЕНКО, Олексій Олексійович); DOB 02 Jun 1980; POB Donetsk, Ukraine; Gender Male (individual) [UKRAINE-EO13660].

Designated pursuant to section 1(a)(i)(B) of Executive Order 13660 of March 10, 2014 “Blocking Property of Certain Persons Contributing to the Situation in Ukraine” (E.O. 13660), for being responsible for or complicit in, or having engaged in, directly or indirectly, actions or policies that threaten the peace, security, stability, sovereignty, or territorial integrity of Ukraine.

3. ROMASHKIN, Ruslan (a.k.a. ROMASHKIN, Ruslan Aleksandrovich (Cyrillic: РОМАШКИН, Руслан Александрович); DOB 15 Jun 1976; Gender Male; Head of the Service Command Point of the Federal Security Service of the Russian Federation for the Republic of Crimea and Sevastopol (individual) [UKRAINE-EO13661].

Designated pursuant to section 1(a)(ii)(A) of E.O. 13661 for being an official of the Government of the Russian Federation.

4. SHEIN, Andrey (a.k.a. SHEIN, Andrey Borisovich); DOB 19 Jun 1971; POB Ivanovskaya Oblast, Russia; citizen Russia; Gender Male; Deputy Head of the Border Directorate—Head of the Coast Guard Unit of the Federal Security Service of the Russian Federation (individual) [UKRAINE-EO13661].

Designated pursuant to section 1(a)(ii)(A) of E.O. 13661 for being an official of the Government of the Russian Federation.

5. STANKEVICH, Sergey (a.k.a. STANKEVICH, Sergey Nikolayevich); DOB 27 Jan 1963; POB Kaliningrad; citizen Russia; Gender Male; Head of the Border Directorate of the Federal Security Service of the Russian Federation (individual) [UKRAINE-EO13661].

Designated pursuant to section 1(a)(ii)(A) of E.O. 13661 for being an official of the Government of the Russian Federation.

6. VYSOTSKY, Vladimir Yurievich (Cyrillic: ВЫСОЦКИЙ, Владимир Юрьевич) (a.k.a. VYSOTSKIY, Vladimir Yurievich; a.k.a. VYSOTSKYI, Volodymyr Yuriyovych (Cyrillic: ВИСОЦЬКИЙ, Володимир Юрійович); DOB 07 Apr 1985; POB Crimea, Ukraine; Gender Male (individual) [UKRAINE-EO13660].

Designated pursuant to section 1(a)(i)(B) of E.O. 13660 for being responsible for or complicit in, or having engaged in, directly or indirectly, actions or policies that threaten the peace, security, stability, sovereignty, or territorial integrity of Ukraine.

Entities

1. AO KONTSERN OKEANPRIBOR (Cyrillic: АО КОНЦЕРН ОКЕАНПРИБОР) (a.k.a. AKTSIONERNOE OBSHCHESTVO KONTSERN OKEANPRIBOR (Cyrillic: АКЦИОНЕРНОЕ ОБЩЕСТВО КОНЦЕРН ОКЕАНПРИБОР); a.k.a. JOINT STOCK COMPANY CONCERN OKEANPRIBOR; a.k.a. JSC CONCERN OKEANPRIBOR; a.k.a. KONTSERN OKEANPRIBOR, PAO), 46, Chkalovskii Prospect, St. Petersburg 197376, Russia; website www.oceanpribor.ru; Registration ID 1067847424160 (Russia); Tax ID No. 7813341546 (Russia) [UKRAINE-EO13662].

Designated pursuant to section 1(a)(i) of Executive Order 13662 of March 20, 2014, “Blocking Property of Additional Persons Contributing to the Situation in Ukraine” (E.O. 13662), for operating in the defense and related material sector of the Russian Federation economy.

2. AO ZAVOD FIOLENT (Cyrillic: АО ЗАВОД ФИОЛЕНТ) (a.k.a. AKTSIONERNOE OBSHCHESTVO ZAVOD FIOLENT (Cyrillic: АКЦИОНЕРНОЕ ОБЩЕСТБО ЗАВОД ФИОЛЕНТ); a.k.a. JOINT STOCK COMPANY FIOLENT PLANT; a.k.a. JSC FIOLENT PLANT; a.k.a. ZAVOD FIOLENT, PAT), House 34/2, Kievskaya Street, Simferopol, Crimea 295017, Ukraine; website www.phiolent.com; Tax ID No. 9102048745 (Russia); Registration Number 1149102099640 (Russia) [UKRAINE-EO13685].

Designated pursuant to section 2(a)(i) of E.O. 13685 of December 19, 2014, “Blocking Property of Certain Persons and Prohibiting Certain Transactions with Respect to the Crimea Region of Ukraine” (E.O. 13685), for operating in the Crimea region of Ukraine.

3. GUP RK KTB SUDOKOMPOZIT (Cyrillic: ГУП РК КТБ СУДОКОМПОЗИТ) (a.k.a. GOSUDARSTVENNOE UNITARNOE PREDPRIYATIE RESPUBLIKI KRIM KONSTRUKTORSKO-TECHNOLOGICHESKOE BYURO SUDOKOMPOZIT (Cyrillic: ГОСУДАРСТВЕННОЕ УНИТАРНОЕ ПРЕДПРИЯТИЕ РЕСПУБЛИКИ КРЫМ КОНСТРУКТОРСКО ТЕХНОЛОГИЧЕСКОЕ БЮРО СУДОКОМПОЗИТ); a.k.a. KTB SUDOKOMPOZIT, GUP; a.k.a. STATE UNITARY ENTERPRISE IN THE REPUBLIC OF CRIMEA DESIGN-TECHNOLOGY BUREAU SUDOKOMPOZIT; a.k.a. SUDOKOMPOZIT DESIGN AND TECHNOLOGICAL BUREAU), House 14, Kuibysheva Street, Feodosia, Crimea 298100, Ukraine; website http://sudocompozit.ru/; Tax ID No. 9108007745 (Russia); Government Gazette Number 00745510 (Russia); Registration Number 1149102094680 (Russia) [UKRAINE-EO13685].

Designated pursuant to section 2(a)(i) of E.O. 13685 for operating in the Crimea region of Ukraine.

4. LLC NOVYE PROEKTY (a.k.a. NOVYE PROYEKTY; a.k.a. NOVYYE PROEKTY), Km Mzhd Kievsko 5-I d. 1, Str. 1, 2, Komnata 21, Moscow 121059, Russia; Tax ID No. 9102196207 (Russia); Government Gazette Number 00998197 (Russia); Registration Number 1159102120550 (Russia) [UKRAINE-EO13685].

Designated pursuant to section 2(a)(i) of E.O. 13685 for operating in the Crimea region of Ukraine.

5. LLC SK CONSOL-STROI LTD (a.k.a. LIMITED LIABILITY COMPANY CONSTRUCTION COMPANY CONSOL-STROI LTD; a.k.a. LIMITED LIABILITY COMPANY KONSTRUCTION COMPANY KONSOL STROI LTD; a.k.a. LLC CONSOL-STROI LTD; a.k.a. LLC CONSOL-STROI LTD CONSTRUCTION COMPANY; a.k.a. OBSHCHESTVO S OGRANICHENNOI OTVETSTVENNOSTYU STROITELNAYA KOMPANIYA KONSOL-STROI LTD; a.k.a. SK KONSOL-STROI LTD; a.k.a. SK KONSOL-STROI LTD, OOO; a.k.a. STROITELNAYA KOMPANIYA KONSOL-STROI LTD), House 16, Borodina Street, Simferopol, Crimea 295033, Ukraine; website consolstroy.ru; alt. Website consol-stroi.ru; Tax ID No. 9102070229 (Russia); Government Gazette Number 00823523 (Russia); Registration Number 1159102014170 (Russia) [UKRAINE-EO13685].

Designated pursuant to section 2(a)(i) of E.O. 13685 for operating in the Crimea region of Ukraine.

6. PAO ZVEZDA (Cyrillic: ПАО ЗВЕЗДА) (a.k.a. PJSC ZVEZDA; a.k.a. PUBLIC JOINT STOCK COMPANY ZVEZDA; a.k.a. PUBLICHNOE AKTSIONERNOE OBSHCHESTVO ZVEZDA (Cyrillic: ПУБЛИЧНОЕ АКЦИОНЕРНОЕ ОБЩЕСТВО ЗВЕЗДА)), 123 Babushkina Street, St. Petersburg 192012, Russia; website www.zvezda.spb.ru; Tax ID No. 7811038760 (Russia); Registration Number 1037825005085 (Russia) [UKRAINE-EO13662].

Designated pursuant to section 1(a)(i) of E.O. 13662 for operating in the defense and related materiel sector of the Russian Federation economy.

7. YAROSLAVSKY SHIPBUILDING PLANT (Cyrillic: ЯРОСЛАВСКИЙ СУДОСТРОИТЕЛЬНЫЙ ЗАВОД) (a.k.a. OJSC YAROSLAVSKY SHIPBUILDING PLANT; a.k.a. OJSC YAROSLAVSKY SHIPYARD; a.k.a. PJSC YAROSLAVSKY SHIPBUILDING PLANT (Cyrillic: ПАО ЯРОСЛАВСКИЙ СУДОСТРОИТЕЛЬНЫЙ ЗАВОД); a.k.a. YAROSLAVL SHIPYARD OPEN JOINT-STOCK COMPANY (Cyrillic: ПУБЛИЧНОЕ АКЦИОНЕРНОЕ ОБЩЕСТВО ЯРОСЛАВСКИЙ СУДОСТРОИТЕЛЬНЫЙ ЗАВОД)), 1, Korabelnaya Str., Yaroslavl 150006, Russia [UKRAINE-EO13662].

Designated pursuant to section 1(a)(i) of E.O. 13662 for operating in the defense and related materiel sector of the Russian Federation economy.

8. ZELENODOLSK SHIPYARD PLANT NAMED AFTER A.M. GORKY (a.k.a. JOINT STOCK COMPANY ZELENODOLSK PLANT NAMED AFTER A.M. GORKY (Cyrillic: ОТКРЫТОЕ АКЦИОНЕРНОЕ ОБЩЕСТВО ЗЕЛЕНОДОЛЬСКИЙ ЗАВОД ИМЕНИ А.М. ГОРЬКОГО); a.k.a. JSC ZELENODOLSK PLANT NAMED AFTER A.M. GORKY (Cyrillic: АО ЗЕЛЕНОДОЛЬСКИЙ ЗАВОД ИМЕНИ А.М. ГОРЬКОГО)), 5, Zavodskaya St., Zelenodolsk, Republic of Tatarstan 422546, Russia [UKRAINE-EO13662].

Designated pursuant to section 1(a)(i) of E.O. 13662 for operating in the defense and related materiel sector of the Russian Federation economy.

Dated: March 19, 2019.
Bradley T. Smith,
Deputy Director, Office of Foreign Assets Control.

[FR Doc. 2019-05580 Filed 3-22-19; 8:45 am]

BILLING CODE 4810-AL-P